DEPARTMENT OF ENERGY

Federal Energy Regulatory Commission

[Docket No. ER03-364-001, et al.]

Alliant Energy Corporate Services, Inc., et al.; Electric Rate and Corporate Filings

March 24, 2003.

The following filings have been made with the Commission. The filings are listed in ascending order within each docket classification.

1. Alliant Energy Corporate Services, Inc.

[Docket No. ER03-364-001]

Take notice that on March 20, 2003, Alliant Energy Corporate Services, Inc., (AECS) tendered for filing with the Federal Energy Regulatory Commission (Commission), rate schedule designations required in Order No. 614, FERC Stats. & Reg. ¶ 31,096 (2000), and as conditioned in the Commission's order in Docket No. ER03-364-000 dated February 26, 2003.

AECS requests an effective date of March 1, 2003, for the filed Amendment.

AECS states that a copy of this filing has been served upon the Public Service Commission of Wisconsin, the Iowa Utilities Board, the Illinois Commerce Commission and the Minnesota Public Utilities Commission.

Comment Date: April 10, 2003.

2. Interstate Power & Light Company

[Docket No. ER03-476-001]

Take notice that on March 18, 2003, Interstate Power and Light Company (IPL), amended its request to terminate Rate Schedule FERC No. 120 with the City of Bellevue. IPL renews its request for an April 1, 2003 effective date and indicates that copies of the filing have been provided to the City of Bellevue and to the Iowa Utilities Board.

Comment Date: April 8, 2003.

3. Commonwealth Edison Company

[Docket ER03-630-000]

Take notice that on March 18, 2003, Commonwealth Edison Company (ComEd), submitted for filing with the Federal Energy Regulatory Commission (Commission) an interconnection agreement between ComEd and Grande Prairie Energy, LLC. ComEd requests an effective date for the interconnection agreement of March 18, 2003.

ComEd states that a copy of the filing was served on Grande Prairie Energy, LLC and on the Illinois Commerce Commission.

Comment Date: April 8, 2003.

4. ISO New England Inc.

[Docket No. ER03-631-000]

Take notice that on March 18, 2003, ISO New England Inc. (the ISO), filed with the Federal Energy Regulatory Commission, pursuant to Section 205 of the Federal Power Act, three Bid Mitigation Agreements between ISO New England and (1) Mirant Kendall, LLC; (2) PG&E Energy Trading—Power, L.P.; and (3) Devon Power LLC, Connecticut Jet Power LLC, Middletown Power LLC, Montville Power LLC, and Norwalk Harbor Power, LLC.

The ISO states that copies of said filing have been served upon all parties to this proceeding, upon NEPOOL Participants, and upon all non-Participant entities that are customers under the NEPOOL Open Access Transmission Tariff, as well as upon the utility regulatory agencies of the six New England States.

Comment Date: April 8, 2003.

5. Commonwealth Edison Company

[Docket No. ER03-632-000]

Take notice that on March 18, 2003, Commonwealth Edison Company (ComEd) submitted to the Federal Energy Regulatory Commission (Commission) a Notice of Cancellation effective February 20, 2003, for Substitute Original Service Agreement No. 609, Second Revised Tariff No. 5 with Midwest Generation, LLC.

ComEd states that notice of the proposed cancellation has been served on Midwest Generation, LLC and the Illinois Commerce Commission.

Comment Date: April 8, 2003.

6. Commonwealth Edison Company

[Docket No. ER03-633-000]

Take notice that on March 18, 2003, Commonwealth Edison Company (ComEd) submitted to the Federal Energy Regulatory Commission (Commission) a Notice of Cancellation effective March 7, 2003, for Service Agreement No. 517, Second Revised Tariff No. 5 with Duke Energy Kankakee, LLC.

ComEd states that notice of the proposed cancellation has been served on Duke Energy Kankakee, LLC and on the Illinois Commerce Commission.

Comment Date: April 8, 2003.

7. San Diego Gas & Electric Company

[Docket No. ER03-634-000]

Take notice that on March 19, 2003, San Diego Gas & Electric Company (SDG&E) tendered for filing its First Revised Service Agreements Nos. 15 and 16 to SDG&E's FERC Electric Tariff, First Revised Volume No. 6, incorporating revisions to the Expedited Interconnection Facilities Agreement and Interconnection Agreement with CalPeak Power—El Cajon LLC (CalPeak) respectively. SDG&E states that the Revised Service Agreement No. 15 provides for the situation in which it would be determined that SDG&E's receipt of payments from CalPeak for the installation of the SDG&E interconnection facilities constitutes income to SDG&E that is subject to taxation, and further clarifies terms pertaining to creditworthiness requirements of CalPeak and the guarantor of CalPeak's financial obligations as contemplated by Section 10.22. SDG&E indicate that Revised Service Agreement No. 16 is being filed in executed form, whereas the original was filed in unexecuted form, without substantive changes.

SDG&E requests an effective date of April 27, 2002 for the Revised Service Agreements.

SDG&E states that copies of the filing have been served on CalPeak and on the California Public Utilities Commission.

Comment Date: April 9, 2003.

8. Bangor-Hydro-Electric Company

[Docket No. ER03-635-000]

Take notice that on March 19, 2003, Bangor Hydro-Electric Company (BHE) filed a Pre-Construction Agreement between BHE and Brascan Energy Marketing, Inc., (BEMI) for the BEH/Great Northern Paper Company—Millinocket 115 kV Interface Project as well as the First Amendment to the Pre-Construction Agreement. BHE requests an effective date of October 25, 2002, for the filing.

Comment Date: April 9, 2003.

9. Commonwealth Edison Company

[Docket No. ER03-636-000]

Take notice that on March 19, 2003, Commonwealth Edison Company (ComEd) submitted to the Federal Energy Regulatory Commission (Commission) a Notice of Cancellation effective February 19, 2003, for Service Agreement No. 554, Second Revised Tariff No. 5, with Granite Power Partners II, L.P.

ComEd states that notice of the proposed cancellation has been served on Granite Power Partners II, L.P. and the Illinois Commerce Commission.

Comment Date: April 9, 2003.

10. Midwest Independent Transmission System Operator, Inc.

[Docket No. ER03-637-000]

Take notice that on March 20, 2003, the Midwest Independent Transmission System Operator, Inc., (Midwest ISO) pursuant to section 205 of the Federal Power Act and section 35.12 of the Federal Energy Regulatory Commission's regulations, submitted for filing an Interconnection and Operating Agreement among New London Municipal Utilities and Interstate Power and Light Company, a wholly owned subsidiary of Alliant Energy Corporation.

Midwest ISO states that a copy of this filing was sent to New London Municipal Utilities and Interstate Power and Light Company, a wholly owned subsidiary of Alliant Energy Corporation.

Comment Date: April 10, 2003.

11. El Paso Electric Company

[Docket No.ER03-638-000]

Take notice that on March 20, 2003, El Paso Electric Company (EPE) tendered for filing a Transaction Agreement between EPE and Southwestern Public Service Company. EPE seeks an effective date of January 1, 2002.

Comment Date: April 10, 2003.

12. Southern California Edison Company

[Docket No. ER03-639-000]

Take notice that on March 20, 2003, Southern California Edison Company (SCE) tendered for filing a Letter Agreement between SCE and the City of Colton (Colton).

SCE states that the purpose of the Letter Agreement is to provide an interim arrangement pursuant to which SCE will commence the engineering, design, and procurement of material and equipment for, and construction of certain facilities necessary to interconnect the Project to Colton's distribution system.

SCE also states that copies of this filing were served upon the Public Utilities Commission of the State of California and Colton.

Comment Date: April 9, 2003.

13. Mirant Las Vegas, LLC; Duke Energy Moapa, LLC; GenWest, LLC; Las Vegas Cogeneration II, LLC; Reliant Energy Bighorn, LLC

[Docket No. TX03-1-000]

Take notice that on March 17, 2003, Mirant Las Vegas, LLC, Duke Energy Moapa, LLC, GenWest, LLC, Las Vegas Cogeneration II, LLC and Reliant Energy Bighorn, LLC (collectively, Applicants) tendered for filing an application for an order directing the establishment of physical interconnection of facilities pursuant to Sections 210 and 212 of the Federal Power Act, 16 U.S.C. 824(I) and (k), and Rules 204 and 206 of the Commission's Rules of Practice and Procedure, 18 CFR 385.204 and 385.206.

Applicants request that the Commission issue an order directing the Los Angeles Department of Water and Power (LADWP), Nevada Power Company, the United States Department of the Interior, Bureau of Reclamation and the Salt River Project, as co-owners of the McCullough Substation located in southern Nevada, to establish an interconnection, on reasonable terms and conditions, between their transmission systems and the Applicants via a physical connection with the Nevada Power transmission system at the McCullough Substation, and to provide Applicants with transmission credits associated with upgrades to the McCullough Substation. The Applicants also request that the Commission consolidate this Application with proceedings in Docket Nos. ER02-1741-000 and ER02-1742-000.

Comment Date: April 16, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-7583 Filed 3-28-03; 8:45 am]

BILLING CODE 6717-01-P